DEPARTMENT OF ENERGY

Federal Energy Regulatory Commission

[Docket No. RP02-413-001]

Florida Gas Transmission Company; Notice of Compliance Filing

October 8, 2002.

Take notice that on October 4, 2002, Florida Gas Transmission Company (FGT) tendered for filing as part of its FERC Gas Tariff, Third Revised Volume No. 1, Sixth Revised Sheet No. 165A; Seventh Revised Sheet No. 166; and Second Revised Sheet No. 166A, to become effective October 1, 2002.

FGT states that on August 1, 2002, FGT filed revised tariff sheets to comply with Order No. 587-0. In the August 1 filing, FGT did not include tariff revisions incorporating North American Energy Standards Board (NAESB) Standards 5.3.2, 5.3.31 and 5.3.32 because revisions to incorporate these standards were included in FGT's June 17, 2002 Order No. 637 Compliance Filing as required by Commission Order dated May 16, 2002 in Docket No. RP00-387 et. al. Subsequently, on September 25, 2002, the Commission issued an order accepting FGT's August 1 filing and directing FGT to file revised tariff sheets, within 15 days of the date of the order, to incorporate NAESB Standards 5.3.2, 5.3.31 and 5.3.32. In the instant filing FGT is filing tariff revisions implementing these standards as required by the order.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26099 Filed 10-11-02; 8:45 am]

BILLING CODE 6717-01-P